DEPARTMENT OF VETERANS AFFAIRS

[OMB Control No. 2900-NEW]

Agency Information Collection Activity: Pulmonary Health and Deployment to Southwest Asia and Afghanistan

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to the notice.

DATES: Written comments and recommendations on the proposed collection of information should be received on or before March 20, 2018.

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900-NEW” in any correspondence. During the comment period, comments may be viewed online through FDMS.

FOR FURTHER INFORMATION CONTACT: Brian McCarthy at (202) 461-6345.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: 38 CFR part 16.

Title: Pulmonary Health and Deployment to Southwest Asia and Afghanistan.

OMB Control Number: 2900-NEW.

Type of Review: New collection.

Abstract: The Department of Veterans Affairs Cooperative Studies Program (CSP) is conducting a human subjects research study to understand the association between military deployment to Afghanistan, Iraq, and 5 other countries and current pulmonary function. Data on deployment locations, exposures while deployed, current pulmonary function and several important covariates are not available and will need to be collected from participants. This research study will generate data which will be used to assist VA in obtaining information that can be used to improve health care for Veterans.

Affected Public: Individuals and households.

Estimated Annual Burden:

Recruitment Screening Module—517 hours.

Spirometry Screening Module—1,033 hours.

Military Overview Module—517 hours.

OEF/OIF/OND Location Module—1,550 hours.

Non-OEF/OIF/OND Location Module—1,550 hours.

OEF/OIF/OND Exposure Module—1,033 hours.

Non-OEF/OIF/OND Exposure Module—1,033 hours.

Civilian Occupation and Hobby Exposure Module—517 hours.

Health, Smoking, and Demographics Module—1,550 hours.

Medication and Dietary Supplement Module—1,033 hours.

Participant Status Check-In Module—517 hours.

Spirometry—3,617 hours.

Medical History Module—517 hours.

Functional Health Module—413 hours.

Health Symptoms Module—310 hours.

Current Mood Module—517 hours.

Participant Feedback Module—310 hours.

Post-Visit Feedback Module—52 hours.

Estimated Average Burden per Respondent:

Recruitment Screening Module—5 minutes.

Spirometry Screening Module—10 minutes.

Military Overview Module—5 minutes.

OEF/OIF/OND Location Module—15 minutes.

Non-OEF/OIF/OND Location Module—15 minutes.

OEF/OIF/OND Exposure Module—10 minutes.

Non-OEF/OIF/OND Exposure Module—10 minutes.

Civilian Occupation and Hobby Exposure Module—5 minutes.

Health, Smoking, and Demographics Module—15 minutes.

Medication and Dietary Supplement Module—10 minutes.

Participant Status Check-In Module—5 minutes.

Spirometry—35 minutes.

Medical History Module—5 minutes.

Functional Health Module—4 minutes.

Health Symptoms Module—3 minutes.

Current Mood Module—5 minutes.

Participant Feedback Module—3 minutes.

Post-Visit Feedback Module—10 minutes.

Frequency of Response: Annually.

Estimated Number of Respondents:

Recruitment Screening Module—6200.

Spirometry Screening Module—6200.

Military Overview Module—6200.

OEF/OIF/OND Location Module—6200.

Non-OEF/OIF/OND Location Module—6200.

OEF/OIF/OND Exposure Module- 6200.

Non-OEF/OIF/OND Exposure Module—6200.

Civilian Occupation and Hobby Exposure Module—6200.

Health, Smoking, and Demographics Module—6200.

Medication and Dietary Supplement Module—6200.

Participant Status Check-In Module- 6200.

Spirometry—6200.

Medical History Module—6200.

Functional Health Module—6200.

Health Symptoms Module—6200.

Current Mood Module—6200.

Participant Feedback Module—6200.

Post-Visit Feedback Module—310.

By direction of the Secretary.
Cynthia Harvey-Pryor,
Department Clearance Officer, Office of Quality, Privacy and Risk. Department of Veterans Affairs.

[FR Doc. 2018-00875 Filed 1-18-18; 8:45 am]

BILLING CODE 8320-01-P